SURFACE TRANSPORTATION BOARD

[Docket No. FD 36139]

Decatur Central Railroad, L.L.C.—Acquisition and Operation Exemption—Topflight Grain Cooperative, Inc.

Decatur Central Railroad, L.L.C. (DC), a Class III rail carrier, has filed a verified notice of exemption under 49 CFR 1150.41 to acquire from Topflight Grain Cooperative, Inc. (Topflight), the assets of a 15.52-mile rail line between milepost 12.11 near Cisco, Piatt County, Ill., and milepost 27.63 (Green's Switch) near Decatur, Macon County, Ill. (the line).¹ In the verified notice, DC also seeks authority to operate a 2.11-mile segment of the line between milepost 12.11 and milepost 14.22.²

¹ DC was authorized to assume operations over the 13.41-mile segment between milepost 14.22 near Cisco, Piatt County, Ill., and milepost 27.63 (Green's Switch) near Decatur, Macon County, Ill. That segment was previously operated by Decatur Junction Railway Co. See Decatur Cent. R.R.—Change in Operator Exemption—Decatur Junction Ry., FD 36080 (STB served Jan. 6, 2017).

² DC states that, after assuming operations, the line was found to be 2.11 miles longer than originally thought. DC now seeks authority to operate the 2.11-mile portion which was not included in its December 2016 filing.

DC describes itself as a joint venture between OmniTRAX Holdings Combined, Inc. and Topflight Grain Cooperative, Inc., each of which owns 50% of DC. DC states that Topflight has agreed to convey its ownership interest in the line to DC.

DC certifies that the agreement between Topflight and OmniTRAX does not contain any provision that prohibits DC from interchanging traffic with a third party or limits DC's ability to interchange traffic with a third-party railroad.

DC also certifies that the proposed transaction will not result in DC's becoming a Class II or Class I rail carrier and that the projected annual revenue of DC will not exceed $5 million.

The transaction may be consummated on or after September 28, 2017, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 21, 2017 (at least seven days before the exemption becomes effective).

An original and 10 copies of all pleadings, referring to Docket No. FD 36139, must be filed with the Surface Transportation Board, 395 E Street SW., Washington, DC 20423-0001. In addition, one copy of each pleading must be served on Karl Morell, Karl Morell & Associates, Suite 440, 440 1st Street NW., Washington, DC 20001.

According to DC, this action is categorically excluded from environmental review under 49 CFR 1105.6(c) and from historic reporting under 49 CFR 1105.8(b).

Board decisions and notices are available on our Web site at WWW.STB.GOV.

Decided: September 11, 2017.
By the Board, Rachel D. Campbell, Director, Office of Proceedings.
Jeffrey Herzig,
Clearance Clerk.

[FR Doc. 2017-19549 Filed 9-13-17; 8:45 am]

BILLING CODE 4915-01-P